NATIONAL SCIENCE FOUNDATION

Agency Information Collection Activities: Comment Request

AGENCY: National Science Foundation.

ACTION: Submission for OMB Review; Comment Request for NSF INCLUDES National Network Survey.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission may be obtained by calling 703-292-7556.

SUPPLEMENTARY INFORMATION: NSF may not conduct or sponsor a collection of information unless the collection of information displays a currently valid OMB control number and the agency informs potential persons who are to respond to the collection of information that such persons are not required to respond to the collection of information unless it displays a currently valid OMB control number.

Title of Collection: NSF INCLUDES National Network Survey.

OMB Number: 3145-NEW.

Proposed Project: In 2016, the National Science Foundation (NSF) unveiled a set of “Big Ideas,” 10 bold, long-term research and process ideas that identify areas for future investment at the frontiers of science and engineering (see https://www.nsf.gov/news/special_reports/big_ideas/index.jsp). The Big Ideas represent unique opportunities to position our Nation at the cutting edge of global science and engineering leadership by bringing together diverse disciplinary perspectives to support convergence research.

The NSF INCLUDES Big Idea is a comprehensive national initiative to enhance U.S. leadership in science, technology, engineering, and mathematics (STEM) discoveries and innovations focused on NSF's commitment to diversity, inclusion, and broadening participation in these fields. The vision of NSF INCLUDES is to catalyze the STEM enterprise to work collaboratively for inclusive change, resulting in a STEM workforce that reflects the population of the Nation.

More specifically, NSF INCLUDES seeks to improve collaborative efforts aimed at enhancing the preparation, increasing the participation, and ensuring the contributions of individuals from groups that have been historically underrepresented and underserved in the STEM enterprise such as African Americans, Alaska Natives, Hispanics, Native Americans, Native Hawaiians, Native Pacific Islanders, persons with disabilities, persons from economically disadvantaged backgrounds, and women and girls. Significant advancement in the inclusion of underrepresented groups in STEM will result in a new generation of STEM talent and leadership to secure our nation's future and long-term economic competitiveness.

A hallmark of NSF INCLUDES is the focus on the five design elements of collaborative infrastructure to achieve systemic change. Collaborative infrastructure refers to the process by which partnering organizations come together to map out mutually reinforcing activities through: (1) Shared vision, (2) partnerships, (3) goals and metrics, (4) leadership and communication, and (5) expansion, sustainability and scale. Through these five design elements of collaborative infrastructure, the successful implementation of NSF INCLUDES will result in substantial advances toward a diverse, innovative, and well-prepared STEM workforce to support our Nation's economy and continued U.S. leadership in the global STEM enterprise. It is anticipated that NSF's investment will contribute to new and improved STEM career pathways, policies, opportunities to learn, and practices for equity and inclusion.

The initiative is supported by the NSF INCLUDES Coordination Hub (www.includesnetwork.org) that provides a framework for communication and networking, network assistance and reinforcement, and visibility and expansion for the NSF INCLUDES National Network as a whole. The Hub leads and supports the National Network, working to (1) facilitate the sharing of promising practices and data for broadening participation in STEM, (2) contribute to the knowledge base on broadening participation in STEM through research, and (3) establish a framework for communications and networking among partners, as well as across the National Network.

NSF is requesting OMB approval for the NSF INCLUDES Coordination Hub to collect information from members of the NSF INCLUDES National Network. The NSF INCLUDES Coordination Hub seeks to collect feedback data from Network members to help inform Hub activities, assess the development and health of the NSF INCLUDES National Network, and begin tracking progress against the Hub's theory of action for building a collaborative infrastructure at the Network level. The purpose of the collection is to allow Network members to provide feedback on Coordination Hub support to date and to identify support needs in the coming year and collect data that will inform the Hub's shared measures work and network support and expansion goals. This information will be used by the Hub to refine its activities in support of the Network and to share with Network members. The NSF INCLUDES National Network is composed of:

• NSF INCLUDES grantees

• Other NSF funded projects,

• Federal Coordination in STEM (FC-STEM) agencies,

• Scholars engaged in broadening participation research, and

• Organizations that support the development of talent from all sectors of society to build an inclusive STEM workforce.

Information collected will include name of the respondents, their affiliated organizations, email addresses, and home states. These personal identifiable information (PII) are collected primarily to categorize responses based on respondents' roles in the NSF INCLUDES National Network. These PII data will be accessed only by the Coordination Hub. Any public reporting of data will be in aggregate form, and any personal identifiers will be removed.

Use of the Information: The information collected is primarily for the use of the NSF INCLUDES Coordination Hub to understand the utility of the network in supporting their project success, and for informing design decisions the Coordination Hub will make regarding future programming and support provided to network members.

Estimate burden on the public: Estimated at 550 hours per year for the life of the Coordination Hub's cooperative agreement with NSF.

Respondents: Members of the NSF INCLUDES National Network. The NSF INCLUDES National Network is comprised of individuals who are interested in or working directly to broaden participation in STEM. Some of these individuals are NSF INCLUDES grantees; others who have received other NSF awards, or pursue broadening participation in STEM with support from other sources, including grants from federal, state, philanthropic, or business entities. Some are themselves representatives of these various types of funders or businesses, such as program officers at NSF, other Federal agencies, and private foundations.

Estimated number of respondents: 1,500.

Average Time per Reporting: 20 minutes.

Frequency: Once per year.

Comments: Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

Please submit one copy of your comments by only one method. All submissions received must include the agency name and collection name identified above for this information collection. Commenters are strongly encouraged to transmit their comments electronically via email. Comments, including any personal information provided become a matter of public record. They will be summarized and/or included in the request for Office of Management and Budget approval of the information collection request.

Dated: October 6, 2020.
Suzanne H. Plimpton,
Reports Clearance Officer, National Science Foundation.

[FR Doc. 2020-22417 Filed 10-8-20; 8:45 am]

BILLING CODE 7555-01-P